ENVIRONMENTAL PROTECTION AGENCY

[EPA-HQ-OPPT-2017-0714; FRL-9973-24]

Certain New Chemical Substances; Receipt and Status Information for December 2017

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from December 1, 2017 to December 31, 2017.

DATES: Comments identified by the specific case number provided in this document must be received on or before June 21, 2018.

ADDRESSES: Submit your comments, identified by docket identification (ID) number EPA-HQ-OPPT-2017-0714, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from December 1, 2017 to December 31, 2017. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the 41 PMN/SNUN/MCANs received by EPA during this period, Table I provides the following information (to the extent that such information is not subject to a CBI claim) on the notices received by EPA during this period: The EPA case number assigned to the notice, a notation of whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number and the version column will note “Initial submission”. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions.

Table I—PMN/SNUN/MCANs Received From 12/1/2017 to 12/31/2017
Case No. | Submission document type | Version | Received date | Manufacturer | Use | Chemical substance
P-16-0458A | Amendment | 2 | 12/12/17 | CBI | (G) Odor control agent | (G) Dialkyldimethyl ammonium salt.
P-16-0509A | Amendment | 8 | 12/01/17 | CBI | (G) For packaging application | (G) Modified ethylene-vinyl alcohol copolymer.
P-17-0003A | Amendment | 8 | 12/11/17 | CBI | (G) Printing ink applications | (G) Styrene(ated) copolymer with alkyl(meth)acrylate, and (meth)acrylic acid.
P-17-0121A | Amendment | 4 | 12/15/17 | CBI | (S) Polyurethane used in an adhesive | (G) Methylene Diphenyl Diisocyanate Terminated Polyurethane Resin.
P-17-0203A | Amendment | 6 | 12/27/17 | FUJIFILM Electronic Materials USA Inc | (G) Crosslinking binder component | (G) Aromatic bis[(ether)(alkyl)phenol].
P-17-0283A | Amendment | 8 | 12/06/17 | CBI | (G) Lubricating oil additive for automotive engine oils | (G) Arenesulfonic acid, alkyl derivatives, metal salts.
P-17-0319A | Amendment | 5 | 12/13/17 | INOLEX Chemical Company | (S) This material will be used an an emollient for a fabric softener/conditioning product. | (S) L-Isoleucine, C18-22-alkyl esters, ethanesulfonates.
P-17-0334A | Amendment | 4 | 12/08/17 | CBI | (G) Chemical precursor | (G) Halogenated alkyl monocyclicamide.
P-17-0336A | Amendment | 6 | 12/07/17 | CBI | (S) Cathode material for lithium ion batteries | (S) Aluminum cobalt lithium nickel oxide.
P-17-0337A | Amendment | 6 | 12/07/17 | CBI | (S) Cathode material for lithium ion batteries | (S) Aluminum boron cobalt lithium nickel oxide.
P-17-0338A | Amendment | 6 | 12/07/17 | CBI | (S) Cathode material for lithium ion batteries | (S) Aluminum boron cobalt lithium magnesium nickel oxide.
P-17-0346A | Amendment | 4 | 12/18/17 | CBI | (G) Destructive use | (G) Triarylalkyl phosphonium halide salt.
P-18-0022A | Amendment | 2 | 12/21/17 | Allnex USA Inc. | (S) Corrosion protection | (G) Substituted Carbomonocycle, polymer with halo substituted heteromonocycle and polyoxyalkylene polymer with alkylenebis [isocyanatocarbomonocycle] bis (carbomonocycle-dicarboxylate), reaction products with alkylamines, hydrolyzed.
P-18-0023A | Amendment | 2 | 12/12/17 | L&L Products | (S) Epoxy hardner/curative | (G) Propanediol phosphate.
P-18-0024A | Amendment | 3 | 12/12/17 | L&L Products | (S) Epoxy hardner/curative | (G) Substituted Cashew, Nutshell liquid, polymer with epichlorohydrin, phosphate.
P-18-0056A | Amendment | 4 | 12/12/17 | CBI | (S) Drier for paints and coatings | (S) Cobalt Neodecanoate Propionate complexes.
P-18-0060A | Amendment | 2 | 12/13/17 | EASTMAN Chemical Company, Inc | (S) Surfactant for liquid dish, liquid laundry and industrial hand wash; FDA related uses; Export only volume of the TSCA manufactured NCS | (S) 1-Butanaminium, 4-amino-N-(2-hydroxy-3-sulfopropyl)-N, N-dimethyl-4-oxo-, N-coco alkyl derivs., inner salts.
P-18-0061A | Amendment | 2 | 12/08/17 | CBI | (G) Industrial coating hardners | (G) Alkyl methacrylates, polymer with alkyl acrylates, styrene hydroxyalkyl acrylates, novalac epoxy and epoxy modified acrylic salt with organic amines.
P-18-0062 | Initial submission | 1 | 12/01/17 | IMKorus, Inc. | (G) Open, non-dispersive use in coatings specifically for the electronics fields | (S) Oxirane, 2,2'-[cyclohexylidenebis(4,1-phenyleneoxymethylene)]bis-.
P-18-0063 | Initial submission | 1 | 12/04/17 | ETHOX Chemicals, LLC | (G) This material is used for stamping, forming, cutting, drilling, or otherwise working metals | (G) Alcohol alkoxylate phosphate.
P-18-0064 | Initial submission | 1 | 12/04/17 | CBI | (G) Intermediate | (G) Fluorinated carboxylate esters and fluorinated alkoxyalkyl heterocycles.
P-18-0065 | Initial submission | 1 | 12/08/17 | Evonik Corporation | (S) Absorption agent; lab reagent | (S) 1,3-Propanediamine, N1,N1-dimethyl-N3-(2,2,6,6-tetramethyl-4-piperidinyl)-.
P-18-0066 | Initial submission | 1 | 12/08/17 | LANXESS Solutions US Inc | (G) Synthetic aircraft engine lubricant for contained use Industrial lubricant | (G) Pentaerythritol Ester of Mixed Linear and Branched Carboxylic Acids.
P-18-0067 | Initial submission | 3 | 12/18/17 | CBI | (G) Adjuvant agent | (S) Fatty acids, C14-18 and C16-18-unsatd., polymers with adipic acid and triethanolamine, di-Me sulfate-quaternized.
P-18-0068 | Initial submission | 1 | 12/13/17 | CBI | (G) Polymer composite additive | (G) Metal, oxo alkylcarboxylate complexes.
P-18-0069 | Initial submission | 1 | 12/14/17 | Sasol Chemicals (USA) LLC | (G) Polymer performance additive | (G) Surface modified boehmite.
P-18-0071 | Initial submission | 1 | 12/20/17 | CBI | (S) Polyamide engineering thermoplastic for manufacture of electric and electronic components | (G) Aromatic dicarboxylic acid, compound with alkane diamines, polymer with alkane diamine and alkane dicarboxylic acid.
P-18-0072 | Initial submission | 1 | 12/20/17 | CBI | (S) Epoxy curing agent | (G) Trioxo ¿bis(propanediamine) salt, polyalkylene tetramine salt.
P-18-0073 | Initial submission | 1 | 12/21/17 | Earth Science Laboratories | (S) FIFRA Inert ingredient, Anti-scalant and Chlorine stabilizer (G) Non-Pesticide Agricultural Use Chemical | (S) Sulfuric acid, ammonium salt (1:?).
P-18-0074 | Initial submission | 2 | 12/22/17 | CBI | (S) A precursor used in the synthesis of quantum dots that are used as a component to make an optical down converter; Component in an optical down converter | (G) Saturated fatty acid, reaction products with cadmium zinc selenide sulfide and polymeric amine.
P-18-0075 | Initial submission | 1 | 12/21/17 | CBI | (S) Precursor component to make an optical convertor in the next step of manufacturing | (G) Saturated fatty acid, reaction products with cadmium zinc selenide sulfide, alkylamine and polymeric amine.
P-18-0076 | Initial submission | 1 | 12/23/17 | CBI | (G) Plastic additive | (G) 1,3,5-Triazine-2,4-Diamine Derivative.
P-18-0077 | Initial submission | 1 | 12/27/17 | Koch Agronomic Services | (S) Additive for urea-containing fertilizer | (S) Urea, reaction products with N-butylphosphorothioic triamide and formaldehyde.
P-18-0078 | Initial submission | 1 | 12/27/17 | CBI | (G) Paint | (G) 2-Alkenoic acid, 2-alkyl-, 2-alkyl ester, polymer with alkyl 2-alkenoate, 2-substitutedalkyl 2-alkenoate and 2-substitutedalkyl 2-alkyl-2-alkenoate, tert alkylperoxoate initiated.
P-18-0079 | Initial submission | 1 | 12/28/17 | CBI | (G) Engineering thermoplastic | (G) Aromatic dicarboxylic acid, compound with alkyl diamines, homopolymer.
P-18-0080 | Initial submission | 1 | 12/29/17 | Van Horn, Metz & Co., Inc. | (S) Used as a binder to formulate isolating primers intended for use on interior walls and wood | (S) 2-Propenoic acid. 2-methyl-, 2-(dimethylamino)ethyl ester, polymer with ethyl 2-propenoate and methyl 2-methyl-2-propenoate, formate (salt).
P-18-0081 | Initial submission | 1 | 12/29/17 | MATERIA, Inc. | (S) Organophosphine intermediate | (S) Phosphine, diethylphenyl-.
SN-17-0012-0013 | Amendment | 2 | 12/19/17 | CBI | (G) Organic peroxide polymerization initiator; organic peroxide polymerization initiator | (S) 1,2,4,5,7,8-Hexoxonane, 3,6,9-triethyl-3,6,9-trimethyl-; 1,2,4,5,7,8-Hexoxonane, 3,6,9-trimethyl-, 3,6,9-tris (Et and Pr) derivs.
SN-18-0001 | Amendment | 4 | 12/04/17 | CBI | (S) Solution based (<1% concentration) oxidation catalyst for the composite market (fiber glass: Insulation, filtration media, reinforcements, optical fibers) oxidation catalyst for composite industry (e.g., for application to gelcoat-type finished goods such as boats, bowling balls, shower stalls and bathtubs, etc.) | (G) Alkyl-dihydroxy-methyl pyridin-carboxylate Iron chloride complex.
J-18-0001 | Initial submission | 1 | 12/08/17 | Zea 2, LLC | (S) For the production of L-alanine | (G) Modified Corynebacterium glutamicum.

In Table II. of this unit, EPA provides the following information (to the extent that such information is not claimed as CBI) on the NOCs received by EPA during this period: The EPA case number assigned to the NOC, the submission document type (initial or amended), the date the NOC was received by EPA, the date of commencement provided by the submitter in the NOC, a notation of the type of amendment (e.g., amendment to generic name, specific name, technical contact information, etc.) and chemical substance identity.

Table II—NOCs Received From 12/1/2017 to 12/31/2017
Case No. | Submission document type | Received date | Commencement date | If amendment, type of amendment | Chemical substance
P-85-1430 | Initial Submission | 12/07/17 | 10/23/2017 |  | (G) Aromatic isocyanate terminated polyester with alkanolamine.
P-06-0728 | Initial Submission | 12/14/17 | 12/15/2006 |  | (G) Cyclohexane, 5-isocyanato-1-(isocyanatomethyl)-1,3,3-trimethyl-, polymer with hexanedioic acid, 1,4-butanediol, 2,2-dimethyl-1,3-propanediol and polypropyleneglycol.
P-06-0729 | Initial Submission | 12/14/17 | 12/15/2006 |  | (G) Cyclohexane, 5-isocyanato-1-(isocyanatomethyl)-1,3,3-trimethyl-, polymer with hexanedioic acid, 3-methyl-1,5-pentanediol, polypropyleneglycol and cyclohexanemethanamine, 5-amino-1,3,3-trimethyl-.
P-06-0730 | Initial Submission | 12/22/17 | 12/15/2006 |  | (G) Cyclohexane, 5-isocyanato-1-(isocyanatomethyl)-1,3,3-trimethyl-, polymer with hexanedioic acid, 3-methyl-1,5-pentanediol, and cyclohexanemethanamine, 5-amino-1,3,3-trimethyl-.
P-09-0399 | Initial Submission | 12/18/17 | 12/1/2017 |  | (S) Butanedioic acid, 2-methylene-, polymer with 2-methyl-2-[(1-oxo-2-propen-1-yl)amino]-1-propanesulfonic acid, sodium salt.
P-12-0124 | Initial Submission | 12/22/17 | 12/22/2017 |  | (G) Cyclohexanedicarboxylic acid, dialkyl ester.
P-12-0582 | Initial Submission | 12/19/17 | 12/1/2017 |  | (S) Fatty acids, C14-22, 2-ethylhexyl esters, epoxidized.
P-14-0681 | Initial Submission | 12/19/17 | 12/19/2017 |  | (G) 2-Propenoic acid, monoester with alkanediol, mixed triesters with 2-oxepanone homopolymer 2-[(1-halosubstituted-alkenyl)oxy]alkyl ester and N,N,'N“-[(2,4,6-trihalosubstituted-1,3,5-triazine-1,3,5(2H,4H,6H)-triyl)tri-6,1-alkanediyl]tris[carbamic acid].
P-15-0103 | Initial Submission | 12/07/17 | 12/1/2017 |  | (G) Copolymer of Vinyl chloride, vinyl carboxylate, acrylic acid, and acrylamide.
P-15-0320 | Initial Submission | 12/6/2017 | 12/6/2017 |  | (S) Propanenitrile, 2,3,3,3-tetrafluoro-2-(trifluoromethyl)-.
P-15-0585 | Initial Submission | 12/28/17 | 12/6/2017 |  | (G) Polyacrylic amide polymer.
P-16-0366 | Initial Submission | 12/4/17 | 11/28/2017 |  | (G) Blocked polyisocyanate.
P-16-0366A | Amendment | 12/14/17 | 11/28/2017 | Generic Name | (G) Isocyanic acid, polymethylenepolyphenylene ester, polymer with alkanolamine and alkylcarbonate, alkoxyethanol-blocked.
P-16-0376 | Initial Submission | 12/20/17 | 12/6/2017 |  | (G) Substituted alkyl reaction products with modified 1-(1,1-dimethylethoxy)-4-ethenylbenzene-styrene polymer.
P-17-0024 | Initial Submission | 12/21/17 | 12/15/2017 |  | (G) Aromatic isocyanate, polymer with alkyloxirane polymer with oxirane ether with alkyldiol (2:1), and alkyloxirane polymer with oxirane ether with alkyltrioll (3:1).
P-17-0175 | Initial Submission | 12/18/17 | 11/21/2017 |  | Proprietary chemical, chemical name and CAS# not known by submitter.
P-17-0241 | Initial Submission | 12/05/17 | 11/22/2017 |  | (G) Acid, reaction products with cadmium selenide (CdSe), trioctylphosphine and trioctylphosphine oxide.
P-17-0242 | Initial Submission | 12/05/17 | 11/22/2017 |  | (G) Acid, reaction products with cadmium selenide sulfide, acid, trioctylphosphine and trioctylphosphine oxide.
P-17-0243 | Initial Submission | 12/05/17 | 11/22/2017 |  | (G) Acid reaction products with cadmium zinc selenide sulfide, trioctylphosphine and trioctylphosphine oxide.
P-17-0244 | Initial Submission | 12/05/17 | 11/22/2017 |  | (G) Metal oxide reaction products with cadmium metal selenide sulfide and amine.
P-17-0296 | Initial Submission | 12/19/17 | 12/4/2017 |  | (S) Siloxanes and Silicones, di-Me, hydrogen-terminated, reaction products with acrylic acid and 2-ethyl-2-[(2-propen-1-yloxy)methyl]-1,3-propanediol, polymers with chlorotrimethylsilane-iso-Pr alc.-sodium silicate reaction products.
P-17-0323 | Initial Submission | 12/27/17 | 12/3/2017 |  | (G) 2-Propenoic acid, alkyl-2-(alkylalkyl)alkyl ester.

In Table III. of this unit, EPA provides the following information (to the extent such information is not subject to a CBI claim) on the test information received by EPA during this time period: The EPA case number assigned to the test information; the date the test information was received by EPA, the type of test information submitted, and chemical substance identity.

Table III—Test Information Received From 12/1/2017 to 12/31/2017
Case No. | Received date | Type of test information | Chemical substance
P-10-0186 | 12/11/17 | Routine/Annual Testing and Reporting: Certifications of Analysis for incoming starting materials and Impurity level recording | (G) Alkyl phosphate salt.
P-10-0317 | 12/17/17 | Measured amounts of [CBI] in representative samples of [CBI] 2016 production of the [CBI] covered by the consent order | (G) Fluoroalkyl acrylate copolymer.
P-11-0483 | 12/11/17 | Routine/Annual Testing and Reporting: Certifications of Analysis for incoming starting materials and Impurity level recording | (G) Alkyl thiol.
P-11-0484 | 12/11/17 | Routine/Annual Testing and Reporting: Certifications of Analysis for incoming starting materials and Impurity level recording | (G) Alkyl sulfate salt.
P-11-0487 | 12/11/17 | Routine/Annual Testing and Reporting: Certifications of Analysis for incoming starting materials and Impurity level recording | (G) Alkyl polyamide.
P-11-0527 | 12/11/17 | Routine/Annual Testing and Reporting: Certifications of Analysis for incoming starting materials and Impurity level recording | (G) Substituted fluoroalkane.
P-11-0528 | 12/11/17 | Routine/Annual Testing and Reporting: Certifications of Analysis for incoming starting materials and Impurity level recording | (G) Fluorinated thiol.
P-11-0533 | 12/11/17 | Routine/Annual Testing and Reporting: Certifications of Analysis for incoming starting materials and Impurity level recording | (G) Non-ionic fluorosurfactant.
P-11-0543 | 12/11/17 | Routine/Annual Testing and Reporting: Certifications of Analysis for incoming starting materials and Impurity level recording | (G) Polyfluorinated alkyl quaternary amine chloride.
P-13-0679 | 12/17/17 | Measured amounts of impurities in representative samples (routine analysis of the starting material, quarterly analysis of the monomer and annual analysis of the product) of [CBI] 2016 production and importation of the [CBI] covered by the consent order | (G) Fluoroalkyl acrylate copolymer.
P-13-0930 | 12/20/17 | 90-Day Dietary Toxicity Study in Sprague Dawley Rats with a 28-Day Recovery Period. (OECD Guideline 408) | (G) Substituted phenol.
P-14-0865 | 12/15/17 | In Vitro Mammalian Cell Forward Gene Mutation (CHO/HPRT) Assay with Duplicate Cultures (OECD Guideline 476) and Dermal Sensitization Test in Guinea Pigs—Buehler Method (OECD Guideline 406/EPA Guideline OPPTS 870.2600) | (G) Aromatic amide oxime.
P-16-0540 | 12/22/17 | Support documentation from submitter's customer including air monitoring data | (G) Diphenolic compound, polymer with 2-(chloromethyl)oxirane and 4,4′-methylenebis[di-alkyl-substituted phenol].
P-16-0543 | 12/21/17 | Air and Wipe Sample Monitoring Report | (G) Halogenophosphoric acid metal salt.
P-16-0577 | 12/19/17 | Absorption and Excretion of [CBI] after Oral Single and Repeated Administration in Male Wistar Rats (OECD Guideline 417) | (G) Alkyl Polyamine.

If you are interested in information that is not included in these tables, you may contact EPA's technical information contact or general information contact as described under FOR FURTHER INFORMATION CONTACT to access additional non-CBI information that may be available.

Authority: 15 U.S.C. 2601 et seq.

Dated: May 4, 2018.
Pamela Myrick,
Director, Information Management Division, Office of Pollution Prevention and Toxics.

[FR Doc. 2018-10791 Filed 5-21-18; 8:45 am]

BILLING CODE 6560-50-P